SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: April 1-30, 2024.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.gov. Regular mail inquiries may be sent to the above address.

SUPPLEMENTARY INFORMATION: This notice lists the projects described below, receiving approval for the consumptive use of water pursuant to the Commission's approval by rule process set forth in 18 CFR 806.22 (e) and 18 CFR 806.22 (f) for the period specified above.

Water Source Approval—Issued Under 18 CFR 806.22(e)

1. The Hershey Company—Hershey Plant (Reese Avenue); ABR-202404001; Derry Township, Dauphin County, Pa.; Consumptive Use of Up to 0.0500 mgd; Approval Date: April 2, 2024.

2. Penn State Health Holy Spirit Medical Center—Holy Spirit Medical Center; ABR-202404002; East Pennsboro Township, Cumberland County, Pa.; Consumptive Use of Up to 0.2070 mgd; Approval Date: April 2, 2024.

3. Church & Dwight Co., Inc.—Davies Facility; ABR-202404003; Jackson Township, York County, Pa.; Consumptive Use of Up to 0.9990 mgd; Approval Date: April 18, 2024.

Water Source Approval—Issued Under 18 CFR 806.22(f)

1. Coterra Energy Inc.; Pad ID: FrystakC P2; ABR-202404004; Bridgewater Township, Susquehanna County, Pa.; Consumptive Use of Up to 5.0000 mgd; Approval Date: April 15, 2024.

2. RENEWAL—Chesapeake Appalachia, LLC; Pad ID: Garrison; ABR-201403012.R2; Washington Township, Wyoming County, Pa.; Consumptive Use of Up to 7.5000 mgd; Approval Date: April 15, 2024.

3. RENEWAL—Chesapeake Appalachia, LLC; Pad ID: Leh Drilling Pad #1; ABR-201204002.R2; Burlington Township, Bradford County, Pa.; Consumptive Use of Up to 7.5000 mgd; Approval Date: April 15, 2024.

4. RENEWAL—Chesapeake Appalachia, LLC; Pad ID: TA; ABR-201403011.R2; Colley Township, Sullivan County, Pa.; Consumptive Use of Up to 7.5000 mgd; Approval Date: April 15, 2024.

5. RENEWAL—EQT ARO LLC; Pad ID: COP Tract 231 (1000); ABR-20090406.R3; Snow Shoe Township, Centre County, Pa.; Consumptive Use of Up to 4.0000 mgd; Approval Date: April 15, 2024.

6. RENEWAL—Pennsylvania General Energy Company, LLC; Pad ID: SGL 75 Pad F; ABR-201403005.R2; McHenry Township, Lycoming County, Pa.; Consumptive Use of Up to 2.5000 mgd; Approval Date: April 15, 2024.

7. RENEWAL—Seneca Resources Company, LLC; Pad ID: PHC 3H; ABR-20090424.R3; Lawrence Township, Clearfield County, Pa.; Consumptive Use of Up to 4.0000 mgd; Approval Date: April 15, 2024.

8. RENEWAL—SWN Production Company, LLC; Pad ID: Fiondi—1; ABR-20090404.R3; Middletown Township, Susquehanna County, Pa.; Consumptive Use of Up to 4.9990 mgd; Approval Date: April 15, 2024.

9. RENEWAL—SWN Production Company, LLC; Pad ID: Holbrook # 1; ABR-20090402.R3; Bridgewater Township, Susquehanna County, Pa.; Consumptive Use of Up to 4.9990 mgd; Approval Date: April 15, 2024.

10. RENEWAL—SWN Production Company, LLC; Pad ID: Turner—1; ABR-20090403.R3; Liberty Township, Susquehanna County, Pa.; Consumptive Use of Up to 4.9990 mgd; Approval Date: April 15, 2024.

11. RENEWAL—SWN Production Company, LLC; Pad ID: Webster—1; ABR-20090401.R3; Franklin Township, Susquehanna County, Pa.; Consumptive Use of Up to 2.9990 mgd; Approval Date: April 15, 2024.

12. RENEWAL—Chesapeake Appalachia, LLC; Pad ID: Manning; ABR-201204009.R2; Cherry Township, Sullivan County, Pa.; Consumptive Use of Up to 7.5000 mgd; Approval Date: April 25, 2024.

13. RENEWAL—Seneca Resources Company, LLC; Pad ID: Edkin 499; ABR-201304018.R2; Sullivan Township, Tioga County, Pa.; Consumptive Use of Up to 4.0000 mgd; Approval Date: April 25, 2024.

14. RENEWAL—Seneca Resources Company, LLC; Pad ID: Flack 502; ABR-201304014.R2; Sullivan Township, Tioga County, Pa.; Consumptive Use of Up to 4.0000 mgd; Approval Date: April 25, 2024.

15. RENEWAL—Seneca Resources Company, LLC; Pad ID: Hepler 235; ABR-201204008.R2; Sullivan Township, Tioga County, Pa.; Consumptive Use of Up to 4.0000 mgd; Approval Date: April 25, 2024.

16. RENEWAL—Chesapeake Appalachia, LLC; Pad ID: I. Harvey Drilling Pad; ABR-201404006.R2; Elkland Township, Sullivan County, Pa.; Consumptive Use of Up to 7.5000 mgd; Approval Date: April 30, 2024.

17. RENEWAL—Chesapeake Appalachia, LLC; Pad ID: SGL 12 D DRILLING PAD; ABR-201704002.R1; Leroy Township, Bradford County, Pa.; Consumptive Use of Up to 7.5000 mgd; Approval Date: April 30, 2024.

18. RENEWAL—Pennsylvania General Energy Company, LLC; Pad ID: SGL75 Pad A; ABR-201404007.R2; McHenry Township, Lycoming County, Pa.; Consumptive Use of Up to 2.5000 mgd; Approval Date: April 30, 2024.

Authority: Public Law 91-575, 84 Stat. 1509 et seq., 18 CFR parts 806 and 808.

Dated: May 9, 2024.
Jason E. Oyler,
General Counsel and Secretary to the Commission.

[FR Doc. 2024-10519 Filed 5-13-24; 8:45 am]

BILLING CODE 7040-01-P